FEDERAL COMMUNICATIONS COMMISSION

Radio Broadcasting Services; AM or FM Proposals To Change the Community of License

AGENCY: Federal Communications Commission.

ACTION: Notice.

SUMMARY: The following applicants filed AM or FM proposals to change the community of license: AGNUS DEI COMMUNICATIONS, INC., Station NEW, Facility ID 190433, BNPH-20120529AKN, From MISSION, SD, To MURDO, SD; ALEX MEDIA, INC., Station NEW, Facility ID 190402, BNPH-20120515ABA, From FRANKLIN, LA, To BELLE ROSE, LA; CBS RADIO STATIONS INC., Station WMSF, Facility ID 29567, BPH-20120529AKO, From WEST PALM BEACH, FL, To MIRAMAR, FL; EDUCATIONAL MEDIA FOUNDATION, Station NEW, Facility ID 190375, BNPH-20120529ALF, From HOTCHKISS, CO, To COLONA, CO; E-STRING WIRELESS, LTD., Station KAGZ, Facility ID 164167, BPH-20120521BEQ, From LUFKIN, TX, To BURKE, TX; KONA COAST RADIO, LLC, Station NEW, Facility ID 190386, BNPH-20120529AJH, From DUBOIS, ID, To SUGAR CITY, ID; KONA COAST RADIO, LLC, Station NEW, Facility ID 190387, BNPH-20120529ALM, From MANILA, UT, To JAMES TOWN, WY; REDWOOD EMPIRE STEREOCASTERS, Station NEW, Facility ID 190436, BNPH-20120524AID, From CLOVERDALE, CA, To GUERNEVILLE, CA; ROY E. HENDERSON, Station KLTR, Facility ID 40775, BPH-20120529ADI, From BRENHAM, TX, To HEMPSTEAD, TX; ROY E. HENDERSON, Station KTWL, Facility ID 21204, BPH-20120529ADK, From HEMPSTEAD, TX, To TODD MISSION, TX; SOUTHEASTERN OKLAHOMA RADIO, LLC, Station NEW, Facility ID 190388, BNPH-20120529AJN, From PITTSBURG, OK, To HARTSHORNE, OK; THRESHOLD COMMUNICATIONS, Station NEW, Facility ID 189494, BNPH-20110630AHJ, From CLATSKANIE, OR, To NAPAVINE, WA.

DATES: The agency must receive comments on or before August 27, 2012.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC 20554, telephone 1-800-378-3160 or www.BCPIWEB.com.

Federal Communications Commission.
James D. Bradshaw,
Deputy Chief, Audio Division, Media Bureau.

[FR Doc. 2012-15757 Filed 6-27-12; 8:45 am]

BILLING CODE 6712-01-P